FEDERAL ELECTION COMMISSION

Sunshine Act Meeting

TIME AND DATE: Thursday, May 23, 2019 at 10:00 a.m.

PLACE: 1050 First Street NE, Washington, DC (12 th Floor).

STATUS: This meeting will be open to the public.

MATTERS TO BE CONSIDERED: Correction and Approval of Minutes for April 11, 2019.

Interpretive Rule on Paying for Cybersecurity Using Party Segregated Accounts

Draft Advisory Opinion 2018-12: Defending Digital Campaigns, Inc.

Draft Advisory Opinion 2019-05: System73

Management and Administrative Matters

CONTACT PERSON FOR MORE INFORMATION: Judith Ingram, Press Officer; Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2019-10633 Filed 5-16-19; 4:25 pm]

BILLING CODE 6715-01-P